NATIONAL CAPITAL PLANNING COMMISSION

1 CFR Part 603

Privacy Act Regulations; Correction

AGENCY: National Capital Planning Commission.

ACTION: Final rule; correction.

SUMMARY: The National Capital Planning Commission (NCPC or Commission) is correcting a final rule that appeared in the Federal Register on September 20, 2017. The document issued New Privacy Act Regulations.

DATES: Effective October 20, 2017.

FOR FURTHER INFORMATION CONTACT: Anne R. Schuyler, General Counsel and Chief FOIA Officer, 202-482-7223, anne.schuyler@ncpc.gov.

SUPPLEMENTARY INFORMATION: In FR Doc. 2017-19996 appearing on page 44044 in the Federal Register on Wednesday, September 20, 2017, the following corrections are made:

§ 603.3 [Corrected]

1. On page 44048, in the second column, the first of the two paragraphs designated (c)(3)(vii) is correctly redesignated as paragraph (c)(3)(vi).

Dated: September 21, 2017.
Anne R. Schuyler,
General Counsel.

[FR Doc. 2017-20609 Filed 9-26-17; 8:45 am]

BILLING CODE 7520-01-P